ENVIRONMENTAL PROTECTION AGENCY

[FRL-9090-8]

Proposed Administrative Cost Recovery Settlement Under Section 122(h) of the Comprehensive Environmental Response Compensation and Liability Act, as Amended, 42 U.S.C. 9622(h), Coffeyville Resources Refining & Marketing, LLC, Coffeyville, KS

AGENCY: Environmental Protection Agency (EPA).

ACTION: Notice; request for public comment.

SUMMARY: In accordance with Section 122(i) of the Comprehensive Environmental Response Compensation and Liability Act, as amended (CERCLA), 42 U.S.C. 9622(i), notice is hereby given of a proposed administrative settlement with Coffeyville Resources Refining & Marketing, LLC (CRRM), Coffeyville, Kansas, for recovery of past response costs concerning the response actions taken by CRRM relative to the manufacture of propane containing higher than normal concentrations of organic fluoride. The settlement requires CRRM to pay the Hazardous Substances Superfund for costs incurred by the United States Environmental Protection Agency, Region 7, in response to overseeing and investigating this response. The settlement requires CRRM to pay $54,625.06, to the Hazardous Substances Superfund. The settlement includes a covenant not to sue the settling party pursuant to Section 107(a) of CERCLA, 42 U.S.C. 9607(a). For thirty (30) days following the date of publication of this notice, EPA will receive written comments relating to the settlement. EPA will consider all comments and may modify or withdraw its consent to the settlement if comments received disclose facts or considerations which indicate that the settlement is inappropriate, improper, or inadequate. EPA's response to any comments received will be available for public inspection at the EPA Region 7 office located at 901 N. 5th Street, Kansas City, Kansas.

DATES: Comments must be submitted on or before January 11, 2010.

ADDRESSES: The proposed settlement is available for public inspection at the EPA Region 7 office, 901 N. 5th Street, Kansas City, Kansas, Monday through Friday, between the hours of 8 a.m. through 4:30 p.m. A copy of the proposed settlement may be obtained from the Regional Hearing Clerk, 901 N. 5th Street, Kansas City, Kansas, (913) 551-7567. Requests should reference the Coffeyville Resources Refining & Marketing, LLC, EPA Docket No. CERCLA-07-2009-0011. Comments should be addressed to: Cheryle Micinski, Chief, Superfund Branch, Office of Regional Counsel, 901 N. 5th Street, Kansas City, Kansas 66101.

FOR FURTHER INFORMATION CONTACT: Cheryle Micinski, at telephone: (913) 551-7274; fax number: (913) 551-7925/Attn: Cheryle Micinski; E-mail address: http://www.micinski.cheryle@epa.gov.

Dated: November 19, 2009.
Robert W. Jackson,
Deputy Division Director Director, Superfund Division, Region 7.

[FR Doc. E9-29350 Filed 12-9-09; 8:45 am]

BILLING CODE 6560-50-P